DEPARTMENT OF COMMERCE

International Trade Administration

[A-821-836]

Sodium Nitrite From the Russian Federation: Antidumping Duty Order

AGENCY: Enforcement and Compliance, International Trade Administration, Department of Commerce.

SUMMARY: Based on affirmative final determinations by the U.S. Department of Commerce (Commerce) and the U.S. International Trade Commission (ITC), Commerce is issuing an antidumping duty order on sodium nitrite from the Russian Federation.

DATES: Applicable November 3, 2022.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On September 12, 2022, Commerce published in the Federal Register its affirmative final determination in the less-than-fair-value (LTFV) investigation of sodium nitrite from the Russian Federation (Russia).¹ Pursuant to section 735(d) of the Tariff Act of 1930, as amended (the Act), on October 27, 2022, the ITC notified Commerce of its affirmative final determination that an industry in the United States is materially injured, within the meaning of section 735(b)(1)(A)(i) of the Act, by reason of imports of sodium nitrite from Russia that are sold in the United States at LTFV.²

¹ See Sodium Nitrite from the Russian Federation: Final Affirmative Determination of Sales at Less Than Fair Value, 87 FR 55781 (September 12, 2022) (Final Determination).

² See ITC's Letter, Investigation No. 731-TA-1586 (Final), dated October 27, 2022.

Scope of the Order

The product covered by this order is sodium nitrite from Russia. For a complete description of the scope of this order, see the appendix to this notice.

Antidumping Duty Order

Based on the above-referenced affirmative final determinations, in accordance with sections 735(c)(2) and 736 of the Act, Commerce is issuing this antidumping duty order. Moreover, because the ITC determined that U.S. imports of sodium nitrite from Russia are materially injuring a U.S. industry, unliquidated entries of such merchandise from Russia, entered or withdrawn from warehouse for consumption, as described below, are subject to the assessment of antidumping duties.

Therefore, in accordance with section 736(a)(1) of the Act, Commerce will direct U.S. Customs and Border Protection (CBP) to assess, upon further instruction by Commerce, antidumping duties equal to the amount by which the normal value of the merchandise exceeds the export price or constructed export price of the merchandise, for all relevant entries of sodium nitrite from Russia. With the exception of entries occurring after expiration of the provisional measures period, but before publication of the ITC's final affirmative injury determination, as further described below, antidumping duties will be assessed on unliquidated U.S. entries of sodium nitrite from Russia entered, or withdrawn from warehouse, for consumption on or after June 28, 2022, the date of publication of the Preliminary Determination in this investigation in the Federal Register.³

³ See Sodium Nitrite from the Russian Federation: Preliminary Affirmative Determination of Sales at Less Than Fair Value, 87 FR 38377 (June 28, 2022) (Preliminary Determination).

Continuation of Suspension of Liquidation

Except as noted in the “Provisional Measures” section of this notice below, in accordance with section 736 of the Act, Commerce will instruct CBP to continue to suspend liquidation of all relevant entries of sodium nitrite from Russia. These instructions suspending liquidation will remain in effect until further notice.

Commerce will also instruct CBP to require cash deposits equal to the estimated weighted-average dumping margins listed in the table below, adjusted by the export subsidy offset. Accordingly, effective on the date of publication in the Federal Register of the notice of the ITC's affirmative final injury determination, CBP will require, at the same time as importers would normally deposit estimated duties on subject merchandise, a cash deposit equal to the estimated weighted-average dumping margins listed in the table below, adjusted by the export subsidy offset. The all-others rate applies to all producers or exporters not specifically listed.

Provisional Measures

Section 733(d) of the Act states that suspension of liquidation pursuant to an affirmative preliminary determination may not remain in effect for more than four months, except where exporters representing a significant proportion of exports of the subject merchandise request that Commerce extend the four-month period to no more than six months.

Commerce published the Preliminary Determination in this investigation on June 28, 2022. Commerce did not extend the deadline for issuing its final determination in this investigation, which it published in the Federal Register on September 12, 2022. Therefore, the four-month period beginning on the date of publication of the Preliminary Determination ended on October 25, 2022.

Consequently, in accordance with section 733(d) of the Act, Commerce will instruct CBP to terminate the suspension of liquidation, and to liquidate, without regard to antidumping duties, unliquidated U.S. entries of sodium nitrite from Russia entered, or withdrawn from warehouse, for consumption after October 25, 2022, the final day on which the provisional measures were in effect, through the day preceding the date of publication of the ITC's affirmative final injury determination in the Federal Register. Suspension of liquidation and the collection of cash deposits will resume on the date of publication of the ITC's affirmative final injury determination in the Federal Register.

Estimated Weighted-Average Dumping Margins

The estimated weighted-average dumping margins are as follows:

⁴ In the final determination in the companion countervailing duty (CVD) investigation, Commerce applied the adverse facts available rate of 45.36 percent to each of the following export subsidy programs: (1) Preferential Lending by Sberbank to Restructure $3.99 Billion in Uralchem Debt; (2) State Financing for Industrial Export Projects; (3) Russian Export Center (REC) Lending; and (4) State Specialized Russian Export-Import Bank (Eximbank) Financing. We subtracted 181.44 percent, the sum of the export subsidy rates, from the estimated weighted-average dumping margin of 207.17 percent to derive the 25.73 percent cash deposit rate. See Sodium Nitrite from the Russian Federation: Final Affirmative Countervailing Duty Determination, 87 FR 38375 (June 28, 2022).

Exporter/producer | Estimated weighted-average dumping margin (percent) | Cash deposit rate adjusted for subsidy offset (percent) ⁴
Uralchem, JSC | 207.17 | 25.73
All Others | 207.17 | 25.73

Establishment of the Annual Inquiry Service Lists

On September 20, 2021, Commerce published a notice titled “Regulations to Improve Administration and Enforcement of Antidumping and Countervailing Duty Laws” in the Federal Register.⁵ On September 27, 2021, Commerce published a notice titled “Scope Ruling Application; Annual Inquiry Service List; and Informational Sessions” in the Federal Register.⁶ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁷

⁵ See Regulations to Improve Administration and Enforcement of Antidumping and Countervailing Duty Laws, 86 FR 52300 (September 20, 2021) (Final Rule).

⁶ See Scope Ruling Application; Annual Inquiry Service List; and Informational Sessions, 86 FR 53205 (September 27, 2021) (Procedural Guidance).

⁷ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ⁸

⁸ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance in the annual inquiry service list segment in ACCESS for the order within 30 days after the date of publication of the order in the Federal Register. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published in the Federal Register.

Commerce may update an annual inquiry service list at any time, as needed, based on interested parties' amendments to their entries of appearance to remove, or otherwise modify, their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ⁹ Accordingly, as stated above, the petitioners and foreign governments should submit their initial entry of appearance after publication of this notice in the Federal Register in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

⁹ See Final Rule, 86 FR 52335.

Notification to Interested Parties

This notice constitutes the antidumping duty order with respect to sodium nitrite from Russia, pursuant to section 736(a) of the Act. Interested parties can find a list of antidumping duty orders currently in effect at https://enforcement.trade.gov/stats/iastats1.html.

This antidumping duty order is issued and published in accordance with section 736(a) of the Act and 19 CFR 351.211(b).

Dated: October 31, 2022.
Lisa W. Wang,
Assistant Secretary for Enforcement and Compliance.

Appendix

Scope of the Order

The product covered by this order is sodium nitrite in any form, at any purity level. In addition, the sodium nitrite covered by this order may or may not contain an anti-caking agent. Examples of names commonly used to reference sodium nitrite are nitrous acid, sodium salt, anti-rust, diazotizing salts, erinitrit, and filmerine. Sodium nitrite's chemical composition is NaNO2, and it is generally classified under subheading 2834.10.1000 of the Harmonized Tariff Schedule of the United States (HTSUS). The American Chemical Society Chemical Abstract Service (CAS) has assigned the name “sodium nitrite” to sodium nitrite. The CAS registry number is 7632-00-0. For purposes of the scope of this order, the narrative description is dispositive, not the tariff heading, CAS registry number, or CAS name, which are provided for convenience and customs purposes.

[FR Doc. 2022-24021 Filed 11-2-22; 8:45 am]

BILLING CODE 3510-DS-P